ENVIRONMENTAL PROTECTION AGENCY

[FRL-8696-1]

State Innovation Grant Program, Preliminary Notice and Request for Input on the Development of a Solicitation for Proposals for 2009 Awards; Correction

AGENCY: Environmental Protection Agency (EPA).

ACTION: Notice; correction.

SUMMARY: This notice is issued to correct the Preliminary Notice and Request for Input on the Development of a Solicitation for Proposals for 2009 Awards originally published on July 9, 2008, in the Federal Register, 73 FR 39298-39301. This notice extends the deadline one week from August 8, 2008, to August 15, 2008, for response from state environmental regulatory agencies; and revises the list of contacts specifically for EPA Regions 6, 8, and 9 found in the Opportunities for Dialogue section. All other information published in the July 9 Notice remains the same.

The U.S. Environmental Protection Agency (EPA or Agency), National Center for Environmental Innovation (NCEI) is giving preliminary notice of its intention to solicit pre-proposals for a 2009 grant program to support innovation by state environmental agencies—the “State Innovation Grant Program.” The Agency is also seeking input from state environmental regulatory agencies on the topic areas for the solicitation. In addition, EPA is asking each state environmental regulatory agency to designate a point of contact speaking on behalf of management (in addition to the Commissioner, Director, or Secretary) who will be the point of contact for further communication about the upcoming solicitation. If your point of contact from previous State Innovation Grant solicitations is to be your contact for this year's competition, there is no need to send that information again, as all previously designated points of contact will remain on our notification list for this year's competition. EPA anticipates publication of a Solicitation Announcement of Federal Funding Opportunity on the Federal government's grants opportunities Web site (http://www.grants.gov) to announce the availability of the next solicitation within 60 days.

FOR FURTHER INFORMATION CONTACT: If you have questions about this notice, please contact EPA at this e-mail address: innovation_state_grants@epa.gov; or you may call Sherri Walker at (202) 566-2186.

DATES: State environmental regulatory agencies will have until August 15, 2008, to respond with: Suggestions for specific topics that should be included under the general subject area of “Innovation in Environmental Permitting Programs” (e.g., topics with 1-2 paragraphs description) for the next solicitation; and point-of-contact information for the person within the state environmental regulatory agency (in addition to Commissioner, Director, or Secretary) who will be designated to receive future notices about the State Innovation Grant competition. We will automatically transmit notice of availability of the solicitation to people in state agencies identified for previous solicitations.

ADDRESSES: We encourage e-mail responses. Information should be submitted in writing via e-mail to: innovation_state_grants@epa.gov; or fax to “State Innovation Grant Program” at (202) 566-2220. If you have questions about responding to this notice, please contact EPA at this e-mail address or fax number, or you may call Sherri Walker at (202) 566-2186.

EPA will acknowledge all responses it receives to this notice. If you have not received an acknowledgment from EPA within three (3) days of the end of the notice period, please send an e-mail to: innovation_state_grants@epa.gov or call Sherri Walker at (202) 566-2186. Failure to do so may result in your information or comments not being received by the deadline. EPA will respond to all questions in writing, and all questions and responses will be posted on the EPA State Innovation Grant Web site at http://www.epa.gov/innovation/stategrants. State agencies are advised to monitor this Web site for information posted in response to questions received prior to and during the competition period.

SUPPLEMENTARY INFORMATION: Background: In April 2002, EPA issued its plan for future innovation efforts, published as Innovating for Better Environmental Results: A Strategy to Guide the Next Generation of Innovation at EPA (EPA 100-R-02-002; http://www.epa.gov/innovation/pdf/strategy.pdf). EPA's Innovation Strategy presents a framework for environmental innovation consisting of four major elements:

1. Strengthening EPA's innovation partnership with states and tribes;

2. Focusing on priority environmental issues;

3. Diversifying environmental protection tools and approaches; and

4. Fostering more “innovation-friendly” systems and organizational cultures.

The State Innovation Grant Program strengthens EPA's partnership with the states by supporting state innovation compatible with EPA's Innovation Strategy. EPA wants to encourage states to build on previous experience (theirs and others) to undertake strategic innovation projects that promote larger-scale models with potential for broader use for “next generation” environmental protection that promise better environmental outcomes and other beneficial results. EPA is interested in funding projects that: (i) Go beyond a single facility experiment and provide change that is “systems-oriented”; (ii) provide better results from a program, process, or sector-wide innovation; and (iii) promote integrated (multi-media) environmental management with a high potential for transfer to other states, U.S. territories, and tribes.

Since 2002, EPA has sponsored six State Innovation Grant Program competitions that asked for State project pre-proposals that supported the general theme of innovation in environmental permitting. We interpret this theme broadly to include alternatives to permitting and the establishment of incentives to go beyond compliance with permit requirements. To date, the program has supported projects primarily in three strategic focus areas: Application of the Environmental Results Programs (ERP) model, state performance-based environmental leadership programs similar to the National Environmental Performance Track (PT) Program, and the application of Environmental Management Systems (EMS) and other integration tools in permitting. EPA's focus on a small number of topics within this general subject area effectively concentrates the limited resources available for greater strategic impact.

Thirty-eight awards to States have been made from the six prior competitions and information on those projects can be found on the EPA Web site at http://www.epa.gov/innovation/stategrants/projects.htm. These projects received collectively over 7 million dollars in assistance. The assistance agreement awards for these projects were made to State environmental regulatory agencies and most recently to a commission within a state with a re-delegated authority to administer an environmental permitting program. Among the grant projects, including those with pending awards: Eighteen (18) were provided for development of Environmental Results Programs, nine (9) were related to Environmental Management Systems and permitting, nine (9) were to enhance performance-based environmental leadership programs, two (2) were for watershed-based permitting, two (2) were for integrated permitting approaches, and one (1) was for streamlining a storm water permit program using an innovation in information technology, applying geographic information systems (GIS) and a web-based portal to a permit application and screening process. Some of the projects funded fit into more than one category (e.g., combination projects of ERP with PT, or ERP with EMS). For information on prior State Innovation Grant Program solicitations and awards, please see the EPA State Innovation Grants Web site at http://www.epa.gov/innovation/stategrants.

Agencies That Are Eligible To Compete for the State Innovation Grant: Historically, we have limited the competition to state agencies with the primary delegations from EPA for permitting programs. We are aware that some state agencies re-delegate their authorities for permitting programs to regional, county, or municipal agencies. Last year, EPA clarified the eligibility definition in the solicitation to include regional, county, or municipal agencies with re-delegated permitting authority for federal environmental permitting programs. Again this year we will consider these agencies for awards providing that the principal state environmental regulatory agency will be an active member of the project team. Agencies are encouraged to partner with other governmental agencies or non-governmental organizations within the State (or outside of their state) that have complementary environmental mandates or symbiotic interests (e.g., energy, agriculture, natural resources management, transportation, public health).

EPA will accept only one pre-proposal in the competition per state. An exception to that limit is anticipated where, as in previous years, a multi-state or state-tribal proposal will be accepted in addition to an individual state proposal. We believe it likely that we will limit this exception so that a state may appear in no more than one multi-state or state-tribal proposal in addition to its individual proposal. States are also encouraged to partner with other states and American Indian tribes to address cross-boundary issues, to encourage collaborative environmental partnering within industrial sectors or in certain topical areas (e.g., agriculture), and to create networks for peer-mentoring. EPA regrets that because of the limitation in available funding it is not yet able to open this competition to American Indian tribal environmental agencies but we strongly encourage tribal agencies to join with adjacent states in project proposals. EPA is interested in hearing from regional, county, or municipal agencies about their interest, capacity, and the likelihood of commitment from the principal statewide regulatory entity to assist a potential project.

Proposed General Topic Areas for Solicitation: To increase the likelihood of strategic impact with what we anticipate to be limited funds, EPA proposes to continue with the general theme of “innovation in permitting,” and additionally to continue with the focus on the three strategic topic areas similar to the last competition: (1) Projects that support the development of state Environmental Results Programs (ERP); (2) projects that implement performance-based environmental leadership programs by states, similar to the National Environmental Performance Track Program particularly including the development and implementation of incentives; (3) projects which involve the application of Environmental Management Systems (EMS), including those that explore the relationship of EMS to permitting (see EPA's Strategy for Determining the Role of EMS in Regulatory Programs at http://www.epa.gov/ems or http://www.epa.gov/ems/docs/EMS_and the_Reg_Structure_41204F.pdf), or otherwise support integrated or multimedia strategies. Connected to this, we are also interested in the application of lean manufacturing tools and techniques for improvement (http://www.epa.gov/innovation/lean/) in environmental performance and energy efficiency. These proposals may involve a linkage to permitting (e.g., reducing emissions to avoid exceeding permit limits).

EPA intends to support state projects that involve innovation in environmental permitting (including alternatives to permitting) related to one of the EPA Innovation Strategy's priority environmental areas, or to other priority areas identified previously by individual states in collaboration with EPA in a formal state-EPA agreement such as a Performance Partnership Agreement (PPA). EPA is interested in projects that focus on priority environmental issues, such as reducing greenhouse gases (e.g., energy efficiency), reducing smog, restoring and maintaining water quality, and reducing the cost of water and wastewater infrastructure.

Request for Input on Solicitation Topics and Priorities: EPA encourages communication from States and other parties about these three thematic areas mentioned here and other areas potentially ripe for innovation. EPA is asking for state environmental regulatory agencies and other interested parties to provide brief (about 1 paragraph) suggestions about additional innovation topics within the subject of innovation in permitting for possible inclusion in the upcoming solicitation. In addition to the three topic areas (ERP, PT, and EMS and integrated approaches), EPA will continue to encourage project proposals that address the four major elements (i.e., strengthening innovation partnerships; focusing on priority environmental issues; diversifying environmental protection tools and approaches; and fostering “innovation-friendly” systems and organizational cultures) and use tools (i.e., incentives, information resources, results-based goals and measures, etc.) highlighted in the Innovation Strategy. EPA may also contemplate projects otherwise related to the general theme of innovation in permitting, in particular as they may address EPA regional and state environmental priorities.

To date, the State Innovation Grant Program has supported the application of ERP for the following sectors:

• Auto body/auto repair/auto salvage sectors,

• Underground storage tanks (UST),

• Dry cleaning operations,

• Printing,

• Animal feedlot operations,

• Injection well management,

• Oil and gas production,

• Food preparation facilities,

As well as a multi-sector application targeted at storm water management.

We are interested in continuing the EMS and permit integration theme, but may consider introduction of greater latitude under this theme such as the integration of EMS into other business systems such as lean manufacturing or six sigma (http://www.epa.gov/innovation/lean/). We also anticipate a continued interested in projects that promote the development of state performance track-like projects, perhaps including “on-ramp” approaches for potential environmental leaders that require upfront compliance assistance.

Potential applicants are advised outright that State Innovation Grants will not be awarded for the development or demonstration of new environmental technologies, nor will they be awarded for the development of information systems or data or projects that have as a primary focus the upgrading of information technology systems, unless there is a clear link to innovation in specific permitting programs.

Projects will be much less likely to be funded through this State Innovation Grant if agency resources pertinent to the topic are already available through another EPA program. Project selections and awards will be subject to funding availability. State environmental regulatory agencies and other respondents should send their suggestions to EPA by e-mail or fax as described in the ADDRESSES section above.

Request for Input on Diffuse Delegations and Designation of a Primary Point of Contact: One of the principal goals of the State Innovation Grant program is the testing of an integrated (multi-media) innovation with the potential for replication or broader application for other sectors, or in permitting programs in other state or tribal agencies. Because of the limitation of funds we have historically limited the competition to state agencies with a primary delegation from EPA for permitting programs. We have concerns that opening the competition to regulatory entities at lower levels (e.g., air control boards, water quality management districts, counties or municipalities) may limit the range of results and the potential for transferability of innovative approaches. We recognize, however, that in some instances states have re-delegated programs to regional or local agencies and that those agencies may manage substantial permitting programs. EPA is seeking comment from states that may have re-delegated several authorities to other governing regional or municipal agencies or boards rather than in one centralized state environmental regulatory agency and from the boards and districts on how we might better accommodate those delegations in this program and take advantage of the expertise in those programs while maintaining the strategically important goal of testing innovation for broad application and transferability. EPA is not seeking comments on our widening of eligibility to agencies with re-delegated authority. We are seeking to determine how many states and entities with re-delegated authority may be anticipating submitting a pre-proposal. Also, we are seeking specific feedback on topical input that these groups may want to give us.

EPA asks that each state environmental regulatory agency designate a primary point-of-contact who we will add to the EPA notification list for further announcements about the State Innovation Grant Program. For point of contact information, please provide: Name, title, department and agency, street or post office address, city, state, ZIP code, telephone, fax number, and e-mail address. If your point of contact from previous State Innovation Grant solicitations is to be your contact for this year's competition, there is no need to send that information again, as all previously designated points of contact will remain on our notification list for this year's competition. We are asking that any new name be submitted with the knowledge and approval of the highest levels of management within an Agency (Commissioner, Director, Secretary, or their deputies). Please submit this information to EPA by mail, fax, or e-mail prior to August 15, 2008, in the following manner.

By e-mail to: Innovation_State_Grants@EPA.gov.

By fax to: State Innovation Grant Program; (202) 566-2220.

We encourage e-mail responses. If you have questions about responding to this notice, please contact EPA at this e-mail address or fax number, or you may call Sherri Walker at (202) 566-2186. For point-of-contact information, please provide: Name, title, department and agency, mailing address (street or P.O. Box), city, state, ZIP code, telephone, fax number, and e-mail address. EPA will acknowledge all responses it receives to this notice.

Opportunity for Dialogue: Between now and the initiation of the competition with the release of the solicitation, communication with potential applicants is allowed. This communication may include helping potential applicants determine whether the applicant itself is eligible or if the scope of an applicant's potential project is suitable for funding, as well as responding to general requests for clarification of the notice. To ensure an equal opportunity for all potential applicants, responses to questions that come to us during the period between this pre-announcement and the release of the solicitation along with helpful resource materials will be posted on the State Innovation Grant Web site at http://www.epa.gov/innovation/stategrants. States are also invited to communicate with NCEI about ideas for future competition themes by contacting the EPA Headquarters contact listed below. The contacts for the EPA Regions and the EPA HQ National Center for Environmental Innovation are as follows:

Anne Leiby or Josh Secunda, U.S. EPA Region 1, 1 Congress Street, Suite 1100, Boston, MA 02114-2023, (617) 918-1076 or (617) 918-1736, leiby.anne@epa.gov or secunda.josh@epa.gov, States: CT, MA, ME, NH, RI, VT.

Jennifer Thatcher, U.S. EPA Region 2, 290 Broadway, 26th Floor, New York, NY 10007-1866, (212) 637-3593, thatcher.jennifer@epa.gov, States & Territories: NJ, NY, PR, VI.

Michael Dunn, U.S. EPA Region 3, 1650 Arch Street (3EA40), Philadelphia, PA 19103, (215) 814-2712, dunn.michael@epa.gov, States: DC, DE, MD, PA, VA, WV.

LaToya Miller, U.S. EPA Region 4, 61 Forsyth Street, SW., Atlanta, GA 30303, (404) 562-9885, miller.latoya@epa.gov, States: AL, FL, GA, KY, MS, NC, SC, TN.

Marilou Martin, U.S. EPA Region 5, 77 West Jackson Boulevard, Chicago, IL 60604-3507, (312) 353-9660, martin.marilou@epa.gov, States: IL, IN, MI, MN, OH, WI.

Craig Weeks or David Bond, U.S. EPA Region 6, Fountain Place, Suite 1200, 1445 Ross Avenue, Dallas, TX 75202-2733, (214) 665-7505 or (214) 665-6431, weeks.craig@epa.gov or bond.david@epa.gov, States: AR, LA, NM, OK, TX.

Wendy Lubbe, U.S. EPA Region 7, 901 North 5th Street, Kansas City, KS 66101, (913) 551-7551, lubbe.wendy@epa.gov, States: IA, KS, MO, NE.

Jack Hidinger or Anthony Deloach, U.S. EPA Region 8, 1595 Wynkoop Street, Denver, CO 80202-1129, (303) 312-6387 or (303) 312-6070, hidinger.jack@epa.gov or deloach.anthony@epa.gov, States: CO, MT, ND, SD, UT, WY.

Kathi Moore or Teddy Ryerson, U.S. EPA Region 9, 75 Hawthorne Street (WTR-1), San Francisco, CA 94105, (415) 972-3271 or (415) 947-8705, moore.kathi@epa.gov or ryerson.teddy@epa.gov, States and Territories: AS, AZ, CA, GU, HI, NV.

Bill Glasser, U.S. EPA Region 10, 1200 Sixth Avenue (ENF-T), Seattle, WA 98101, (206) 553-7215, glasser.william@epa.gov, States: AK, ID, OR, WA.

Headquarters Office: Sherri Walker, U.S. EPA (MC 1807T), National Center for Environmental Innovation, State Innovation Grants Program, 1200 Pennsylvania Avenue, NW., Washington, DC 20460, send an e-mail to innovation_state_grants@epa.gov, call (202) 566-2186, or fax (202) 566-2220.

Opportunity for Pre-Competition Briefings and Addressing Questions: In addition, prior to this year's solicitation, we are planning to host a series of informational meetings and opportunities for question and answer (Q&A) sessions via teleconference calls. These conference calls will enable us to offer two-hour streamlined informational sessions to all States prior to our solicitation, and will allow us to answer any questions that the States have prior to the competition, in keeping with Federal requirements that we afford assistance fairly in a competition process. Specific conference call logistics and grant resource information will be provided to each Region as well as being posted on our Web site at http://www.epa.gov/innovation/stategrants. Pre-competition briefing summaries and all other resource materials will be posted on the Web site at http://www.epa.gov/innovation/stategrants. Through this effort, we are hoping to encourage individual States, State-led teams, or other eligible applicants (e.g., regional, county, or municipal agencies with delegated authority for federal environmental permitting programs) to submit well-developed pre-proposals that effectively describe in particular how their project will achieve measurable environmental results.

Dated: July 16, 2008.
Elizabeth Shaw,
Office Director, National Center for Environmental Innovation.

[FR Doc. E8-16834 Filed 7-22-08; 8:45 am]

BILLING CODE 6560-50-P